DEPARTMENT OF LABOR

Employment and Training Administration

[TA-W-63,306]

Art Guild of Philadelphia, Inc., Eastern Display Division, Providence, RI; Notice of Termination of Investigation

In accordance with Section 221 of the Trade Act of 1974, as amended, an investigation was initiated on May 5, 2008 in response to a petition filed by a company official on behalf of workers of Art Guild of Philadelphia, Inc., Eastern Display Division, Providence, Rhode Island.

The petitioner has requested that the petition be withdrawn. Consequently, the investigation has been terminated.

Signed in Washington, DC, this 30th day of June, 2008.
Richard Church,
Certifying Officer, Division of Trade Adjustment Assistance.

[FR Doc. E8-15866 Filed 7-11-08; 8:45 am]

BILLING CODE 4510-FN-P